ENVIRONMENTAL PROTECTION AGENCY

40 CFR Part 61

[FRL-7773-5]

RIN 2060-AI90

National Emission Standards for Hazardous Air Pollutants; National Emission Standards for Emissions of Radionuclides Other Than Radon From Department of Energy Facilities; National Emission Standards for Radionuclide Emissions From Federal Facilities Other Than Nuclear Regulatory Commission Licensees and Not Covered by Subpart H; Final Amendment—Correction

AGENCY: Environmental Protection Agency (EPA).

ACTION: Final rule; technical correction.

SUMMARY: The Environmental Protection Agency published a final rule amending the National Emission Standards for Hazardous Air Pollutants (NESHAPs), which regulate the air emissions of radionuclides other than radon-222 and radon-220 from facilities owned or operated by the Department of Energy (DOE) and from Federal Facilities other than Nuclear Regulatory Commission (NRC) licensees and not covered by Subpart H. This document contains corrections to the final regulations, which were effective October 9, 2002. After publication in the Federal Register it was discovered that the value in table 2 of Method 114 was incorrect.

Dates: Effective Date: July 17, 2004.

FOR FURTHER INFORMATION CONTACT: Eleanor Thornton-Jones, Center for Waste Management, Radiation Protection Division, Office of Radiation and Indoor Air, U.S. Environmental Protection Agency, Mailstop 6608J, 1200 Pennsylvania Avenue, NW., Washington, DC 20460, by e-mail: thornton.eleanord@epa.gov or by phone (202) 343-9773.

SUPPLEMENTARY INFORMATION:

Docket

All documents relevant to this rulemaking have been placed in Docket A-94-60 in EPA's Air Docket. The Air Docket is located at 1200 Pennsylvania Avenue, NW., 20460, in room B-102, Mail Code 6102T and is open between the hours of 8:30 a.m. and 4:30 p.m., Monday through Friday. A reasonable fee may be charged for copying.

Background

On September 9, 2002, the Environmental Protection Agency published in the Federal Register (65 FR 57159), a final rule amending NESHAPs, which regulate the air emissions of radionuclides other than radon-222 and radon-220 from facilities owned or operated by the Department of Energy (DOE) (Subpart H) and from Federal Facilities other than Nuclear Regulatory Commission (NRC) licensees and not covered by Subpart H (Subpart I). These regulations require that emissions of radionuclides to the ambient air shall not exceed those amounts that would cause any member of the public to receive in any year an effective dose equivalent of 10 millirem per year (mrem/yr). Also, for non-DOE Federal facilities, emissions of iodine shall not exceed those amounts that would cause any member of the public to receive in any year an effective dose equivalent of 3 mrem/yr. Regulated facilities demonstrate compliance with the standard by sampling and monitoring radionuclide emissions from all applicable point sources. Historically, radionuclide emissions from point sources are measured in accordance with the American National Standards Institutes's (ANSI) “Guide to Sampling Airborne Radioactive Materials in Nuclear Facilities,” ANSI N13.1-1969. In 1999, the American National Standards Institute substantively revised ANSI N13.1-1969 and renamed it “Sampling and Monitoring Releases of Airborne Radioactive Substances from the Stacks and Ducts of Nuclear Facilities,'ANSI/HPS N13.1-1999. In 2002, the Agency updated its regulations at 40 CFR part 61, subparts H and I to require the use of ANSI/HPS N13.1-1999 for all applicable newly constructed or modified facilities and imposed additional inspection requirements on existing facilities consistent with the revised ANSI standard.

Need for Correction

In 40 CFR part 61, Appendix B, Method 114, table 2, under the listing for “Clean transport lines” the Frequency of Activity Column states “Visible deposits for HEPA-filtered applications. Surface density of 1 g/cm³.” This should read “Visible deposits for HEPA-filtered applications. Mean mass of deposited material exceeds 1 g/m² for other applications.” Table 2 used in the Appendix B, Method 114 was orginally from the ANSI Standard (ANSI/HPS N13.1-1999 (Docket No. A-94-60, Item II-D-3)); Section 6.4.6 “Cleaning transport lines” explains the value used and the required process involved in cleaning transport lines. This section did not talk in terms of density but in terms of the mass of material deposited.

List of Subjects in 40 CFR Part 61

Environmental protection, Air pollution control, Radionuclides, Radon, Reporting and recordkeeping requirements.

Dated: June 7, 2004.
Bonnie C. Gitlin,
Acting Director, Radiation Protection Division.

For the reasons set forth in preamble title 40, chapter I of the Code of Federal Regulations is amended as follows:

PART 61—[CORRECTED]

1. The authority citation for part 61 continues to read as follows:

Authority: 42 U.S.C. 7401, 7412, 7414, 7416, 7601, and 7602.

2. In Appendix B to part 61, table 2 in Method 114 is amended by revising the entry for “Clean transport lines” to read as follows:

Appendix B to Part 61—Test Methods

* * * * *

Method 114—Test Methods for Measuring Radionuclide Emissions From Stationary Sources

* * * * *

4. Quality Assurance Methods

* * * * *

Table 2.—Maintenance, Calibration and Field Check Requirements
Sampling system components | Frequency of activity
Clean transport lines | Visible deposits for HEPA-filtered applications. Mean mass of deposited material exceeds 1g/m² for other applications.

* * * * *

[FR Doc. 04-13679 Filed 6-16-04; 8:45 am]

BILLING CODE 6560-50-P